FEDERAL MARITIME COMMISSION

Notice of Agreements Filed

The Commission hereby gives notice of filing of the following agreements under the Shipping Act of 1984. Interested parties may submit comments, relevant information, or documents regarding the agreements to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of agreements are available through the Commission's website (www.fmc.gov) or by contacting the Office of Agreements at (202) 523-5793 or tradeanalysis@fmc.gov.

Agreement No.: 007345-023.

Agreement Name: California Association of Port Authorities.

Parties: City of Los Angeles Harbor Department (Port of Los Angeles); Humboldt Bay Harbor District; Oxnard Harbor District (Port of Hueneme); Port of Long Beach; Port of Oakland; Port of Redwood City; Port of Richmond; Port of San Diego; Port of San Francisco; Port of Stockton; Sacramento-Yolo Port District (Port of West Sacramento).

Filing Party: Matthew Antonelli; Saul Ewing.

Synopsis: The Amendment constitutes a restated version of the existing agreement, which updates and modernizes the language used throughout the agreement, and updates practices to reflect modern technology and means of communication.

Proposed Effective Date: 11/12/2023.

Location: https://www2.fmc.gov/FMC.Agreements.Web/Public/AgreementHistory/15269.

Agreement No.: 011931-011.

Agreement Name: CMA CGM/Marfret Vessel Sharing Agreement for PAD Service.

Parties: CMA CGM SA; Compagnie Maritime Marfret S.A.S.

Filing Party: Draughn Arbona; CMA CGM.

Synopsis: The Amendment would revise the agreement's geographic scope and increase the number of vessels operated under the agreement.

Proposed Effective Date: 11/10/2023.

Location: https://www2.fmc.gov/FMC.Agreements.Web/Public/AgreementHistory/512.

Agreement No.: 012472-005.

Agreement Name: Yang Ming/COSCO Shipping Slot Exchange Agreement.

Parties: COSCO Shipping Lines Co. Ltd.; Yang Ming Joint Service Agreement.

Filing Party: Joshua Stein; Cozen O'Connor.

Synopsis: The Amendment revises the parties to the agreement to reflect Yang Ming Joint Service Agreement in place of the Yang Ming entities.

Proposed Effective Date: 11/10/2023.

Location: https://www2.fmc.gov/FMC.Agreements.Web/Public/AgreementHistory/1969.

Agreement No.: 201407-001.

Agreement Name: HMM Yang Ming PSX Space Charter Agreement.

Parties: Hyundai Merchant Marine Co. Ltd.; Yang Ming Joint Service Agreement.

Filing Party: Joshua Stein; Cozen O'Connor.

Synopsis: The Amendment revises the parties to the agreement to reflect Yang Ming Joint Service Agreement in place of the Yang Ming entities.

Proposed Effective Date: 9/27/2023.

Location: https://www2.fmc.gov/FMC.Agreements.Web/Public/AgreementHistory/84503.

Dated: September 29, 2023.
Carl Savoy,
Program Support Specialist.

[FR Doc. 2023-22074 Filed 10-3-23; 8:45 am]

BILLING CODE 6730-02-P